DEPARTMENT OF EDUCATION

Office of Postsecondary Education; Overview Information; National Resource Centers (NRC) Program for Foreign Language and Area Studies or Foreign Language and International Studies Program and Foreign Language and Area Studies (FLAS) Fellowships Program; Notice Inviting Applications for New Awards for Fiscal Year (FY) 2010

Catalog of Federal Domestic Assistance (CFDA) Numbers: 84.015A and 84.015B.

Dates:

Applications Available: February 2, 2010.

Deadline for Transmittal of Applications: March 23, 2010.

Deadline for Intergovernmental Review: May 24, 2010.

Full Text of Announcement

I. Funding Opportunity Description

Purpose of Program: The NRC Program makes awards to institutions of higher education or consortia of institutions of higher education to establish or strengthen nationally recognized foreign language and area or international studies centers or programs. NRC awards are used to support undergraduate centers or comprehensive centers, which include undergraduate, graduate, and professional school components.

The FLAS Fellowships Program provides allocations of fellowships to institutions of higher education or consortia of institutions of higher education to assist meritorious undergraduate and graduate students undergoing training in modern foreign languages and related area or international studies.

Priorities: This notice includes one absolute priority, one competitive preference priority, and five invitational priorities.

NRC Program Absolute Priority: In accordance with 34 CFR 75.105(b)(2)(ii), this priority is from the regulations for the NRC program (34 CFR 656.23(a)(4)). For FY 2010, this priority is an absolute priority for the NRC program. Under 34 CFR 75.105(c)(3), we consider only applications that meet this priority.

This priority is:

Applications that provide for teacher training activities on the language, languages, area studies, or thematic focus of the center. Within this absolute priority, we are particularly interested in applications that address the following invitational priorities.

NRC Program Invitational Priorities: For FY 2010, these priorities are invitational priorities. Under 34 CFR 75.105(c)(1), we do not give an application that meets these invitational priorities a competitive or absolute preference over other applications.

These priorities are:

NRC Invitational Priority 1

Applications that propose activities designed to coordinate with other programs in title VI of the Higher Education Act of 1965, as amended (HEA) with the objective of increasing the Nation's capacity to train and produce Americans with advanced proficiency in the less and least commonly taught languages along with an understanding of the societies in which those languages are spoken.

NRC Invitational Priority 2

Applications that propose collaborative activities with institutions of higher education that are eligible to receive assistance under part A or B of Title III or under Title V of the HEA or community colleges designed to internationalize curriculum and improve foreign language and area and international studies instruction at these institutions.

NRC Invitational Priority 3

Applications that propose collaborative activities with professional schools such as Business, Law, Public Health, Public Policy, Environmental Science, Communication, Journalism and Schools of Education in order to strengthen international components of study in those fields and to promote foreign language study by students in professional schools.

NRC Invitational Priority 4

Programs or projects that develop, maintain, or enhance linkages with overseas institutions of higher education or other educational organizations in areas with substantial Muslim populations in order to improve understanding of these societies and provide for greater engagement with institutions in these areas.

FLAS Program Competitive Preference Priority: In accordance with 34 CFR 75.105(b)(2)(ii), this priority is from the regulations for the FLAS program (34 CFR 657.22(a)(2)). For FY 2010, this priority is a competitive preference priority. Under 34 CFR 75.105(c)(2)(i), we award an additional five points to an application that meets this priority.

This FLAS Competitive Preference Priority is:

Applications that propose to make at least 25% of their academic year fellowships in any of the 78 priority languages listed below that were selected from the U.S. Department of Education's list of Less Commonly Taught Languages (LCTLs):

Akan (Twi-Fante), Albanian, Amharic, Arabic (all dialects), Armenian, Azeri (Azerbaijani), Balochi, Bamanakan (Bamana, Bambara, Mandikan, Mandingo, Maninka, Dyula), Belarusian, Bengali (Bangla), Berber (all languages), Bosnian, Bulgarian, Burmese, Cebuano (Visayan), Chechen, Chinese (Cantonese), Chinese (Gan), Chinese (Mandarin), Chinese (Min), Chinese (Wu), Croatian, Dari, Dinka, Georgian, Gujarati, Hausa, Hebrew (Modern), Hindi, Igbo, Indonesian, Japanese, Javanese, Kannada, Kashmiri, Kazakh, Khmer (Cambodian), Kirghiz, Korean, Kurdish (Kurmanji), Kurdish (Sorani), Lao, Malay (Bahasa Melayu or Malaysian), Malayalam, Marathi, Mongolian, Nepali, Oromo, Panjabi, Pashto, Persian (Farsi), Polish, Portuguese (all varieties), Quechua, Romanian, Russian, Serbian, Sinhala (Sinhalese), Somali, Swahili, Tagalog, Tajik, Tamil, Telugu, Thai, Tibetan, Tigrigna, Turkish, Turkmen, Ukrainian, Urdu, Uyghur/Uigur, Uzbek, Vietnamese, Wolof, Xhosa, Yoruba, and Zulu.

FLAS Program Invitational Priority: For FY 2010, this priority is an invitational priority. Under 34 CFR 75.105(c)(1), we do not give an application that meets this invitational priority a competitive or absolute preference over other applications.

This priority is:

Applications that propose recruitment activities and collaboration with professional schools designed to increase quality fellowship applications for advanced level language study for professional studies students in fields such as Business, Law, Public Health, Public Policy, Environmental Science, Communication, Journalism, or Education.

Program Authority: 20 U.S.C. 1122.

Applicable Regulations: (a) The Education Department General Administrative Regulations (EDGAR) in 34 CFR parts 74, 75, 77, 79, 80, 82, 85, 86, 97, 98 and 99. (b) The regulations in 34 CFR part 655. (c) The regulations for the NRC program in 34 CFR part 656. (d) The regulations for the FLAS program in 34 CFR part 657.

Note: The regulations in 34 CFR part 79 apply to all applicants except federally recognized Indian tribes.

Note: The regulations in 34 CFR part 86 apply to institutions of higher education only.

Areas of National Need: In accordance with section 601(c) of the HEA, 20 U.S.C. 1121(c), the Secretary has consulted with and received recommendations regarding national need for expertise in foreign languages and world regions from the head officials of a wide range of Federal agencies. The Secretary has taken these recommendations into account and a list of foreign languages and world regions identified by the Secretary as areas of national need may be found on the following Web sites: http://www.ed.gov/about/offices/list/ope/policy.html; http://www.ed.gov/programs/iegpsnrc/legislation.html; http://www.ed.gov/programs/iegpsflasf/legislation.html.

Also included on these Web sites are the specific recommendations the Secretary received from Federal agencies.

II. Award Information

Type of Award: Discretionary grants.

Estimated Available Funds: $34,041,000 for new awards for the NRC Program and $35,400,000 for new awards for the FLAS Program.

Estimated NRC Program Funding Levels by Area: Africa, ($3,200,000); Canada, ($541,000); East Asia, ($5,075,000); International, ($2,650,000); Latin America, ($5,075,000); Middle East, ($5,075,000); Russia, East Europe, and Eurasia ($5,075,000); South Asia, ($2,675,000); Southeast Asia, ($2,025,000); and Western Europe, ($2,650,000).

Estimated FLAS Program Funding Levels by Area: Africa, ($3,550,000); Canada, ($320,000); East Asia, ($5,780,000); International, ($1,920,000); Latin America, ($4,800,000); Middle East, ($5,240,000); Russia, East Europe, and Eurasia ($5,780,000); South Asia, ($3,200,000); Southeast Asia, ($2,460,000); and Western Europe, ($2,350,000).

Estimated Range of Awards: $200,000-$349,000 per year for the NRC Program; $86,500-$376,000 per year for the FLAS Program.

Estimated Average Size of Awards: $270,000 per year for the NRC Program; $281,000 per year for the FLAS Program.

Estimated FLAS Program Subsistence Allowance: The subsistence allowance for an academic year 2010-2011 fellowship is $15,000 for a graduate student and $5,000 for an undergraduate student. The subsistence allowance for a summer 2011 fellowship is $2,500 for graduate and undergraduate students.

Estimated FLAS Program Institutional Payment: The institutional payment for an academic year 2010-2011 fellowship is $18,000 for a graduate student and $10,000 for an undergraduate student. The institutional payment for a summer 2011 fellowship is $5,000 for graduate and undergraduate students.

Estimated Number of Awards: 126 NRC awards; 126 FLAS awards. We estimate that the 126 FLAS awards will yield 950 academic year fellowships and 900 summer fellowships.

Note: The Department is not bound by any estimates in this notice.

Project Period: Up to 48 months.

III. Eligibility Information

1. Eligible Applicants: An institution of higher education or consortia of institutions of higher education.

2. Cost Sharing or Matching: These programs do not involve cost sharing or matching.

IV. Application and Submission Information

1. Address to Request Application Package: Carla White, U.S. Department of Education, 1990 K Street, NW., room 6084, Washington, DC 20006-8521. Telephone: (202) 502-7631 or by e-mail: carla.white@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for these programs.

Page Limit: The application narrative is where you, the applicant, address the selection criteria that reviewers use to evaluate your application. You must limit the narrative to no more than 45 pages for a single institution application or no more than 55 pages for a consortium application, using the following standards:

• A “page” is 8.5″ × 11″, on one side only, with 1″ margins at the top, bottom, and both sides.

• Double space (no more than three lines per vertical inch) all text in the application narrative, including titles, headings, footnotes, quotations, references, and captions. However, you may single space all text in charts, tables, figures and graphs. Charts, tables, figures, and graphs in the project narrative count toward the page limit.

• Use a font that is either 12-point or larger, or no smaller than 10 pitch (characters per inch). However, you may use a 10-point font in charts, tables, figures, and graphs.

• Use one of the following fonts: Times New Roman, Courier, Courier New, or Arial. An application submitted in any other font (including Times Roman or Arial Narrow) will not be accepted.

Section C of the application package provides instructions about the application narrative. The narrative must include your complete response to the selection criteria.

The page limit does not apply to the cover sheet; the budget section, including the budget forms and budget detail (costs and descriptions); the assurances and certifications; the one-page abstract; the appendices including the four-page timeline, the biographical information, the course list, and the table of project objectives; the world area selection sheet; the FLAS approved languages list; the GEPA statement; or the application information to meet statutory requirements (description of diverse perspectives and wide range of views in funded activities and description of government service in areas of national need and in other employment sectors).

We will reject your application if you exceed the page limit.

3. Submission Dates and Times:

Applications Available: February 2, 2010.

Deadline for Transmittal of Applications: March 23, 2010.

Applications for grants under this competition must be submitted in paper format by mail or hand delivery. For information (including dates and times) about how to submit your application by mail or hand delivery, please refer to section IV.—Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: May 24, 2010.

4. Intergovernmental Review: These programs are subject to Executive Order 12372 and the regulations in 34 CFR part 79. Information about Intergovernmental Review of Federal Programs under Executive Order 12372 is in the application package for these programs.

5. Funding Restrictions: We reference regulations outlining funding restrictions in the Applicable Regulations section of this notice.

6. Other Submission Requirements: Applications for grants under these programs must be submitted in paper format by mail or hand delivery.

a. Submission of Applications by Mail.

If you submit your application by mail (through the U.S. Postal Service or a commercial carrier), you must mail the original and two copies of your application, on or before the application deadline date, to the Department at the following address: U.S. Department of Education, Application Control Center, Attention: (CFDA Numbers 84.015A and 84.015B), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

b. Submission of Applications by Hand Delivery.

If you submit your application by hand delivery, you (or a courier service) must deliver the original and two copies of your application by hand, on or before the application deadline date, to the Department at the following address: U.S. Department of Education, Application Control Center, Attention: (CFDA Numbers 84.015A and 84.015B), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. General: All NRC and FLAS grant applications are categorized based on their focus on a single country or on a world area, such as Africa, East Asia, or the Middle East, or on international studies. For FY 2010, all NRC and FLAS applications will be assigned to a geographic or international studies reader panel, based on the designation that you, the applicant, have specified on the world area selection sheet in your grant application. For the competition, each distinct geographic or international studies reader panel will separately review, score, and rank its assigned NRC and FLAS grant applications. For the NRC Program and for the FLAS Program, the Department will select applications for funding consideration from each distinct reader panel based on their ranking from highest to lowest within that panel.

2. Selection Criteria: The selection criteria for the NRC and FLAS Programs are in 34 CFR 656.21 and 656.22, and 657.21, respectively, and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For the NRC and FLAS Programs, final and annual reports must be submitted into the International Resource Information System (IRIS) online data and reporting system. For specific requirements on reporting, please go to: http://iris.ed.gov/iris/pdfs/NRC.pdf; http://iris.ed.gov/iris/pdfs/FLAS_director.pdf; http://iris.ed.gov/iris/pdfs/FLAS_fellow.pdf.

4. Performance Measures: The objective of the NRC Program is to provide grants to institutions of higher education or consortia of institutions of higher education to establish, strengthen, and operate comprehensive and undergraduate language and area or international studies centers. The Department will use the following measures to determine the success of the NRC Program.

NRC Performance Measure 1: Percentage of less and least commonly taught languages as defined by the Secretary of Education taught at Title VI National Resource Centers.

NRC Performance Measure 2: Percentage of priority languages (formerly referred to as critical need languages) as defined by the Secretary of Education taught at National Resource Centers.

NRC Performance Measure 3: Percentage of NRC grants teaching intermediate or advanced courses in priority languages (formerly referred to as critical need languages) as defined by the Secretary of Education.

The objective of the FLAS Program is to provide academic year and summer fellowships to institutions of higher education to assist undergraduate and graduate students studying foreign languages and either area or international studies. The Department will use the following measures to evaluate the success of the FLAS Program.

FLAS Performance Measure 1: The average competency score of FLAS recipients at the end of one full year of instruction minus the average score at the beginning of the year.

FLAS Performance Measure 2: Percentage of FLAS master's and doctoral graduates that studied priority languages (formerly referred to as critical need languages) as defined by the Secretary of Education.

FLAS Performance Measure 3: Percentage of FLAS participants who report that they found employment that utilizes their language and area skills.

FLAS Efficiency Measure: Cost per FLAS Fellowship Program fellow increasing average language competency by at least one level.

VII. Agency Contact

For Further Information Contact: Carla White, International Education Programs Service, U.S. Department of Education, 1990 K Street, NW., room 6084, Washington, DC 20006-8521. Telephone: (202) 502-7631 or, by e-mail: carla.white@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: January 28, 2010.
Daniel T. Madzelan,
Director, Forecasting and Policy Analysis.

[FR Doc. 2010-2185 Filed 2-1-10; 8:45 am]

BILLING CODE 4000-01-P